ENVIRONMENTAL PROTECTION AGENCY

[EPA-HQ-RCRA-2006-0796; FRL-8684-3]

Notice of Scientific Peer Review Teleconference on the Draft “Human and Ecological Risk Assessment of Coal Combustion Wastes”

AGENCY: Environmental Protection Agency (EPA).

ACTION: Notice.

SUMMARY: The Environmental Protection Agency (EPA or the Agency) is announcing that a telephone conference will be held with the peer reviewers (who are reviewing the draft Human and Ecological Risk Assessment of Coal Combustion Wastes or draft risk assessment) and interested members of the public. During this teleconference, the Agency will accept oral comments from the public on technical aspects of the draft risk assessment.

DATES: The teleconference will be held on Tuesday, July 8, 2008, beginning at 12 Noon Eastern Time. Requests from members of the public who wish to make oral presentations during the teleconference will be accepted through Thursday, July 3, 2008.

ADDRESSES: Telephone conference call only. See the following SUPPLEMENTARY INFORMATION section for information on how to submit an oral statement during the teleconference.

FOR FURTHER INFORMATION: For general information on this teleconference, contact Ms. Thea Johnson at (703) 308-0050, or johnson.thea@epa.gov, Office of Solid Waste (Mailcode: 5307P), U.S. Environmental Protection Agency, 1200 Pennsylvania Ave., NW., Washington, DC 20460. Any member of the public who wishes to make an oral statement during the teleconference (10 minutes or less) must pre-register according to the instructions outlined in the following SUPPLEMENTARY INFORMATION section.

SUPPLEMENTARY INFORMATION: Background: On August 29, 2007, EPA published a Notice of Data Availability (NODA) in the Federal Register that announced the availability of new information and data contained in three documents regarding the management of coal combustion wastes (CCW) in landfills and surface impoundments. (72 FR 49714.) The Agency sought public comments on how, if at all, this additional information should affect EPA's decisions as it continues to follow-up on its Regulatory Determination for CCW disposed of in landfills and surface impoundments. The three documents that the Agency requested comment on included: The joint U.S. Department of Energy (DOE) and EPA report entitled, Coal Combustion Waste Management at Landfills and Surface Impoundments, 1994-2004; the draft risk assessment conducted by EPA on the management of CCW in landfills and surface impoundments entitled, Human and Ecological Risk Assessment of Coal Combustion Wastes; and the EPA's damage case assessment. (The Agency also included in the Docket to the NODA a rulemaking petition submitted by a number of citizens' groups and several approaches, one prepared by the electric utility industry and the other prepared by a number of citizens' groups regarding the management of CCW). The Agency solicited information regarding the damage cases, the results of the risk assessment, and the new liner and groundwater monitoring information from the DOE/EPA report. EPA also requested comment on the draft risk assessment document to help inform a planned peer review, with which this notice is associated. In addition to the draft risk assessment, EPA will also make available to the peer reviewers the public comments regarding the draft risk assessment that were submitted during the comment period, which closed on February 11, 2008.

Availability of Teleconference Materials: A draft agenda and other supporting materials, including the teleconference number and instructions on how to access the teleconference telephone line will be posted on the Science Inventory Web site no later than Thursday, July 3, 2008. The Science Inventory Web site can be accessed at http://www.epa.gov/si. Additional information related to the Regulatory Determination for CCW disposed of in landfills and surface impoundments can be found in docket EPA-HQ-RCRA-2006-0796, available online at http://www.regulations.gov.

Procedures for Providing Public Input: Interested members of the public may make an oral statement to the independent peer reviewers during the teleconference. Oral Statements: Individuals or groups requesting to make oral presentations to the independent peer reviewers on this public telephone conference will be limited to 10 minutes per speaker. Comments will be accepted from only one speaker per organization.

Procedures for Pre-Registration: Industrial Economics, Incorporated (IEc), an EPA contractor for external scientific review, will convene the independent experts, organize, and conduct the peer review teleconference. To participate in this teleconference, register by Thursday, July 3, 2008 by visiting http://www.epa.gov/epaoswer/other/fossil/tele-form.htm or by sending an e-mail to register@indecon.com. Please reference “CCW Peer Review Telephone Conference” and include your name, title, affiliation, full address and contact information. Due to the limited number of telephone lines, pre-registration is strongly recommended. You may also register by calling the registration telephone line at (703) 308-0436. The deadline for pre-registration is Thursday, July 3, 2008. If telephone lines are available after the pre-registration deadline, then, registrations will continue to be accepted after this date.

Accessibility: For information on services for individuals with disabilities, please leave a detailed message, as well as contact information at (703) 308-0436 or e-mail your request to register@indecon.com.

Dated: June 18, 2008.
Matt Hale,
Director, Office of Solid Waste.

[FR Doc. E8-14234 Filed 6-23-08; 8:45 am]

BILLING CODE 6560-50-P